DEPARTMENT OF JUSTICE

Notice of Public Comment Period for Proposed Second Amendment to Consent Decree Under the Clean Air Act

Under 28 CFR 50.7, notice is hereby given that, for a period of 30 days, the United States will receive public comments on a proposed Second Amendment to Consent Decree in United States and the States of Colorado, Louisiana, Oklahoma, and Montana v. Conoco, Inc. (Civil action No. H-01-4430), which was lodged with the United States District Court for the District of Minnesota on July 12, 2006.

This is a proposed Second Addendum to Consent Decree in this national, multi-facility Clean Air Act (“Act”) enforcement action against Conoco Inc. (now “ConocoPhillips”). The original settlement, covering four refineries, was entered by the Court on April 30, 2002, to address claims under Section 113(b) of the Clean Air Act (“CAA”), 42 U.S.C. 7413(b) (1983), amended by, 42 U.S.C. 7413(b) (Supp. 1991), as part of our Petroleum Refinery Initiative. The Consent Decree was first amended on August 1, 2003, to reflect the sale of the Denver refinery to Suncor Energy (U.S.A.) Inc. (“Suncor”). Suncor remains a party to the global settlement and has assumed responsibility for implementing the Consent Decree requirements at the Denver refinery.

This proposed Second Amendment, which affects both ConocoPhillips and Suncor, accomplishes the following: (1) Modifies the fluid catalytic cracking unit (“FCCU”) catalyst additive programs at all refineries; (2) establishes interim and final emission limits for FCCUs at the Ponca City, Oklahoma, refinery; (3) allows for alternative technologies for nitrogen oxide (“NOX) controls on FCCUs; and (4) includes adjusted compliance dates resulting from the impact of Hurricanes Katrina and Rita.”

The Department of Justice will receive for a period of thirty (30) days from the date of this publication comments relating to the Second Amendment to Consent Decree. Comments should be addressed to the Assistant Attorney General, Environment and Natural Resources Division, P.O. Box 7611, U.S. Department of Justice, Washington, DC 20044-7611, and should refer to United States, et al v. Conoco, Inc., D.J. Ref. 90-5-2-1-07295/1.

During the public comment period the Consent Decree may be examined at the Office of the United States Attorney, Southern District of Texas, U.S. Courthouse, 515 Rusk, Houston, Texas 77002. The Amendment may also be examined on the following Department of Justice Web site, http://www.usdoj.gov/enrd/open.html. A copy of the Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.75 (25 cents per page reproduction cost) payable to the U.S. Treasury.

Robert D. Brook,
Assistant Chief, Environmental Enforcement Section, Environment and Natural Resources Division.

[FR Doc. 06-6488 Filed 7-25-06; 8:45 am]

BILLING CODE 4410-15-M